DEPARTMENT OF TRANSPORTATION

Federal Transit Administration

FY 2025 Competitive Funding Opportunity: Low or No Emission Grant Program and the Grants for Buses and Bus Facilities Competitive Program

AGENCY: Federal Transit Administration (FTA), Department of Transportation (DOT).

ACTION: Notice of funding opportunity (NOFO).

SUMMARY: The Federal Transit Administration (FTA) announces the opportunity to apply for $1.5 billion in competitive grants for the Fiscal Year (FY) 2025 Low or No Emission Grant Program and FY 2025 Grants for Buses and Bus Facilities Program.

DATES: Complete proposals must be submitted electronically through the GRANTS.GOV “APPLY” function by 11:59 p.m. Eastern time Monday, July 14, 2025.

FOR FURTHER INFORMATION CONTACT: Email Kirsten Wiard-Bauer, Office of Program Management, at FTALowNoBusNOFO@dot.gov or (202) 366-2053.

SUPPLEMENTARY INFORMATION: The full text of the Notice of Funding Opportunity (NOFO) can be found on FTA's website at https://www.transit.dot.gov/funding/grants/notices and in the “FIND” module of GRANTS.GOV. The funding opportunity IDs are FTA-2025-008-TPM-LWNO and FTA-2025-007-TPM-BUS. Mail and fax submissions will not be accepted.

Matthew J. Welbes,
Executive Director.

[FR Doc. 2025-08571 Filed 5-14-25; 8:45 am]

BILLING CODE P